DEPARTMENT OF HEALTH AND HUMAN SERVICES

Administration for Children and Families

Submission for OMB Review; Form ACF-196T, Tribal TANF Financial Report (OMB #0970-0345)

AGENCY: Office of Family Assistance; Administration for Children and Families; HHS.

ACTION: Request for public comment.

SUMMARY: Form ACF-196T is used by tribes to report expenditures for the Tribal Temporary Assistance for Needy Families (TANF) grant. The Administration for Children and Families (ACF) will use the financial data provided by tribes to estimate quarterly funding needs, calculate award amounts, and assess compliance with statutory and regulatory requirements. ACF is requesting an extension with no changes to the form and minor updates to the instructions.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: Tribes use Form ACF-196T to report expenditures for the Tribal TANF grant. Authority to collect and report this information is found in the Personal Responsibility and Work Opportunity Reconciliation Act of 1996, Public Law 104-193. Tribal entities with approved tribal plans for implementation of the TANF program are required under Section 412(h) of the Social Security Act to report financial data. Form ACF-196T provides for the collection of data regarding federal expenditures. Failure to collect this data would seriously compromise ACF's ability to monitor expenditures. This information is also used to estimate outlays and may be used to prepare ACF budget submissions to Congress. Financial management of the program would be seriously compromised if the expenditure data were not collected. 45 CFR part 286 subpart E requires the strictest controls on funding requirements, which necessitates review of documentation in support of tribal expenditures for reimbursement. Comments received from previous efforts to implement a similar Tribal TANF Report Form ACF-196T were used to guide ACF in the development of the product presented with this submittal.

Respondents: All Tribal TANF Agencies.

Annual Burden Estimates
Form | Total number of respondents | Number of responses per respondent | Average burden hours per response | Annual burden hours
ACF-196T | 75 | 4 | 1.5 | 450

Estimated Total Annual Burden Hours: 450.

Authority: U.S.C. Section 402 of the Social Security Act (42 U.S.C. 602).

Mary B. Jones,
ACF/OPRE Certifying Officer.

[FR Doc. 2020-04067 Filed 2-27-20; 8:45 am]

BILLING CODE 4184-36-P